DEPARTMENT OF TRANSPORTATION

Federal Transit Administration

Notice of Limitation on Claims Against Proposed Public Transportation Projects

AGENCY: Federal Transit Administration (FTA), DOT.

ACTION: Notice of Limitation on Claims.

SUMMARY: This notice announces final environmental actions taken by the Federal Transit Administration (FTA) for Beckley Intermodal Gateway Project, Beckley, West Virginia; Charlotte Gateway Station Project, Charlotte, North Carolina; Renaissance Square Center, Rochester, New York; New Haven Rail Yard Maintenance Facility Improvements, New Haven, Connecticut; North Highway 89 Pathway Project, Teton County, Wyoming; Tucson Modern Streetcar Project, Tucson, Arizona; New Mexico Rail Runner Park and Ride, Sante Fe, New Mexico; Jordan River Service Center, Salt Lake City, Utah; Alaska Railroad Shoulder Maintenance Project, City of Wasilla to City of Fairbanks, Alaska; Tukwila Commuter Rail Station Project, King County, Washington; and Union Station Rehabilitation and Bus Transfer Facility, Winston Salem, North Carolina. The purpose of this notice is to announce publicly the environmental decisions by FTA on the subject projects and to activate the limitation on any claims that may challenge these final environmental actions.

DATES: By this notice, FTA is advising the public of final agency actions subject to Title 23, United States Code (U.S.C.) section 139(l). A claim seeking judicial review of the FTA actions announced herein for the listed public transportation projects will be barred unless the claim is filed on or before January 4, 2010.

FOR FURTHER INFORMATION CONTACT: Elizabeth Zelasko, Environmental Protection Specialist, Office of Planning and Environment, 202-366-0244, or Christopher Van Wyk, Attorney-Advisor, Office of Chief Counsel, 202-366-1733. FTA is located at 1200 New Jersey Avenue, SE., Washington, DC 20590. Office hours are from 9 a.m. to 5:30 p.m., EST, Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA), and in other documents in the FTA administrative record for the project. The final agency environmental decision documents—Records of Decision (RODs) or Findings of No Significant Impact (FONSIs)—for the listed projects are available online at http://www.fta.dot.gov/planning/environment/planning_environment_documents.html or may be obtained by contacting the FTA Regional Office for the metropolitan area where the project is located. Contact information for FTA's Regional Offices may be found at http://www.fta.dot.gov.

This notice applies to all FTA decisions on the listed projects as of the issuance date of this notice and all laws under which such actions were taken, including, but not limited to, the NEPA [42 U.S.C. §§ 4321-4375], section 4(f) of the Department of Transportation Act of 1966 [49 U.S.C. § 303], section 106 of the National Historic Preservation Act [16 U.S.C. § 470f], and the Clean Air Act [42 U.S.C. §§ 7401-7671q]. This notice does not, however, alter or extend the limitation period of 180 days for challenges of project decisions subject to previous notices published in the Federal Register.

The projects and actions that are the subject of this notice are:

1. Project name and location: Beckley Intermodal Gateway, Beckley, West Virginia. Project sponsor: City of Beckley. Project description: The City of Beckley is constructing a 4.2-acre transit center on an existing surface parking lot bounded by Robert C. Byrd Drive, Neville Street, Leslie C. Gates Place, and Prince Street. The transit center will include a multi-level parking garage, space for municipal functions, transit supported retail services, and space for tourism and economic development agencies. Final agency actions: Section 106 Finding of No Adverse Effect; Project-level air conformity determination; no use of section 4(f) properties; and FONSI dated March 31, 2009. Supporting documentation: Final Beckley Intermodal Gateway Environmental Assessment available in March 2009.

2. Project name and location: Charlotte Gateway Station, Charlotte, North Carolina. Project sponsor: Charlotte Area Transit System (CATS). Project description: CATS, in cooperation with the City of Charlotte and the North Carolina Department of Transportation, has planned a six-acre, multi-modal transportation facility that will serve as a centralized downtown transportation hub for CATS buses, commuter rail, streetcar, other rapid transit operations, Amtrak intercity passenger rail, and Greyhound bus service. The transportation facility will also include over 200,000 square feet of retail, office, and future air rights developments. The Charlotte Gateway Station will be located along the Norfolk Southern Atlanta-Washington mainline tracks between 3rd, Graham, and Trade Streets within walking distance of the downtown business district. Final agency actions: Section 106 Finding of No Adverse Effect; Project-level air quality conformity determination; no use of section 4(f) properties; and FONSI dated April 22, 2009. Supporting documentation: Environmental Assessment for the Charlotte Gateway Station available in April 2009.

3. Project name and location: Renaissance Square Center, Rochester, New York. Project sponsor: Rochester Genesee Regional Transportation Authority (RGRTA). Project description: RGRTA is proposing to construct the Renaissance Square Center, which is a mixed-used development in downtown Rochester on a site that includes portions of blocks bounded by East Main Street, North Clinton Avenue, Pleasant Street, and St. Paul Street. Several parcels and buildings and two streets will be acquired and demolished to construct a new, five-story, multi-use building. This building will serve as an intermodal transit center for RGTRA's regional transit service and for intercity bus service operated by Greyhound and Trailways. The building will also house the downtown campus for Monroe Community College and a downtown Performing Arts Center. Final agency actions: Section 106 Programmatic Agreement; Project-level air conformity determination; section 4(f) de minimis finding; and FONSI dated February 17, 2009. Supporting documentation: Renaissance Square Environmental Assessment and section 4(f) Evaluation available in December 2008.

4. Project name and location: New Haven Rail Yard Maintenance Facility Improvements, New Haven, Connecticut. Project sponsor: Connecticut Department of Transportation (CTDOT). Project description: CTDOT is proposing to enhance the existing 74-acre rail yard to provide maintenance shops, facilities, and yard space for storage of a new fleet of M-8 commuter rail cars. The proposed project includes construction of 25 storage tracks, a 48,000 square foot component change-out shop, an 85,200 square foot service and inspection shop, an independent wheel true shop, a building for maintaining the right-of-way, a material distribution warehouse, a rail car wash facility, a heavy repair/paint shop, and a parking structure for employee vehicles. Other existing facilities would either be incorporated into the new design or demolished. Final agency actions: Section 106 Finding of No Adverse Effect; section 4(f) de minimis impact finding; Project-level air quality conformity determination; and FONSI dated May 7, 2009. Supporting documentation: New Haven Rail Maintenance Facility Improvements Environmental Assessment and section 4(f) Evaluation dated March 2009.

5. Project name and location: North Highway 89 Pathway Project, Teton County, Wyoming. Project sponsor: Teton County, through Jackson Hole Community Pathways. Project description: The project, planned in partnership with the U.S. Fish and Wildlife Service and the National Elk Refuge, is a shared-use pathway along the east side of Highway 89 between the Town of Jackson and the southern boundary of Grand Teton National Park. The project was selected for a Paul S. Sarbanes Transit in the Parks Program grant and will include the construction of one underpass for users to access the National Museum of Wildlife Art and one bridge across the Gros Ventre River. Final agency actions: Section 106 Finding of No Historic Properties Affected; no use of section 4(f) properties; and FONSI dated March 31, 2009. Supporting documentation: Environmental Assessment for the North Highway 89 Pathway Project made available in March 2009.

6. Project name and location: Tucson Modern Streetcar, Tucson, Arizona. Project sponsor: City of Tucson Department of Transportation (TDOT). Project description: TDOT proposes to construct a 3.6-mile modern streetcar line that will connect downtown Tucson, the Rio Nuevo Master Plan redevelopment area, the 4th Avenue and Main Gate business districts, the University of Arizona (UA), and the Arizona Health Sciences Center (AHSC). The Tucson Modern Streetcar project will also involve the construction of 19 stations and the purchase of seven new vehicles. Final agency actions: Section 106 Finding of No Adverse Effect; Project-level air conformity determination; no use of section 4(f) properties; and FONSI dated January 22, 2009. Supporting documentation: Tucson Urban Corridor Environmental Assessment and section 4(f) Evaluation available in August 2008.

7. Project name and location: Commuter rail station facilities and interchange modifications at I-25 and NM 599 in Metropolitan Sante Fe, New Mexico. Project sponsor: New Mexico Department of Transportation (NMDOT). Project description: FTA will provide funding for the construction of a park-and-ride lot, bus drop-off area, access roads to accommodate these transit facilities, and the pedestrian walkway for the New Mexico Rail Runner Commuter Rail Line, which is sponsored by the NMDOT. This station will be located within the loop ramp connecting I-25 and NM 599; and the access road will be within the existing highway right-of-way along I-25. The Federal Highway Administration (FHWA) and NMDOT prepared an Environmental Assessment for the New Mexico Rail Runner: NM 599 Station in October 2008. FTA adopted the environmental assessment and associated mitigation commitments presented within the document related to the selected alternative. Final agency actions: Project-level air conformity determination; Section 106 Finding of No Historic Properties Affected; no use of section 4(f) properties; and FTA FONSI dated February 2, 2009. Supporting documentation: FWHA Environmental Assessment for the New Mexico Rail Runner: NM 599 Station available in October 2008.

8. Project name and location: Jordan River Service Center, Salt Lake City, Utah. Project Sponsor. Utah Transit Authority (UTA). Project description: UTA is constructing a new maintenance facility to address the need for additional light rail vehicle storage and maintenance capacity. The Jordan River Service Center will be located at a former furniture warehouse site in the City of South Salt Lake, Utah, in an area zoned for light industrial use adjacent to the under-construction West Valley light rail line. At full build out, the Jordan River Service Center will maintain and store approximately 100 vehicles. Final agency actions: Section 106 Finding of No Historic Properties Affected; no use of section 4(f) properties; Project-level air quality conformity determination; and FONSI dated June 5, 2009. Supporting documentation: Environmental Assessment for the Jordan River Service Center available in April 2009.

9. Project description and location: Alaska Railroad Shoulder Maintenance Project, Wasilla to Fairbanks, Alaska. Project sponsor: Alaska Railroad Corporation. Project description: The Alaska Railroad Corporation (ARRC) will conduct shoulder improvements at various locations between Wasilla and Fairbanks, Alaska, to enhance track safety over the next ten years. These improvements will stabilize the track and provide necessary rail support to allow for heavier and faster trains. The project was previously proposed by ARRC and the Federal Railroad Administration (FRA) in 2005. The FRA prepared the Alaska Railroad Shoulder Maintenance Project, Wasilla to Fairbanks, Alaska, NEPA Environmental Assessment in July 2005. FTA conducted an independent review of the FRA environmental assessment, the administrative record, and updated project details, and developed its own FONSI based on the information contained within those materials. Final agency actions: No Historic Properties Affected; no use of section 4(f) properties; and FTA FONSI dated June 3, 2009. Supporting documentation: FRA Alaska Railroad Shoulder Maintenance Project, Wasilla to Fairbanks, Alaska, NEPA Environmental Assessment available in July 2005.

10. Project name and location: Tukwila Commuter Rail Station Project, Tukwila, Washington. Project sponsor: Sound Transit. Project description: Sound Transit is proposing to replace a temporary Sounder commuter rail station in Tukwila, Washington, with a permanent station. The permanent station will be located south of Interstate 405 and east of State Road 181 on undeveloped land extending from the east margin of the Burlington Northern Sante Fe (BNSF) right-of-way to the western margin of the Union Pacific Railroad right-of-way. The permanent station will include a 350-space parking facility, bus and bike access, a ticketing booth, and other facilities. Final agency actions: Section 106 Finding of No Historic Properties Affected; Project level air conformity determination; no use of section 4(f) properties; and FONSI dated March 2009. Supporting documentation: Tukwila Commuter Rail Station Environmental Assessment available in January 2009.

11. Project name and location: Union Station Rehabilitation and Bus Transfer Facility, Winston-Salem, North Carolina. Project Sponsor: North Carolina Department of Transportation (NCDOT). Project description: NCDOT and the City of Winston-Salem are proposing to rehabilitate the former train station that was constructed in 1926 to serve passengers on the Southern, Norfolk & Western, and Winston-Salem Southbound Railroads. Since 1975, the building has been in private ownership and used as an automobile repair facility. Under the proposed rehabilitation plan, the station would be converted to a multimodal transit center. Project elements include the construction of a bus loop and parking lot, creation of a roundabout from the intersection of Martin Luther King Jr. Drive, Excelsior Street, and the U.S. 421/I-40 business ramps, and construction of a bridge and train platform adjacent to the station to accommodate potential Piedmont Authority for Regional Transportation (PART) and Amtrak rail service. Final agency actions: Section 106 Finding of No Adverse Effect; no use of section 4(f) properties; Project level air quality conformity determination; and FONSI dated August 12, 2008. Supporting documentation: Environmental Assessment for the Winston-Salem Union Station Rehabilitation available in June 2008.

Issued on June 29, 2009.
Susan Borinsky,
Associate Administrator for Planning and Environment, Washington, DC.

[FR Doc. E9-16004 Filed 7-6-09; 8:45 am]

BILLING CODE 4910-57-P